DEPARTMENT OF HOMELAND SECURITY

Coast Guard

[Docket No. USCG-2021-0845]

Area Maritime Security Advisory Committee (AMSC) for San Diego, CA

AGENCY: Coast Guard, DHS.

ACTION: Solicitation for membership.

SUMMARY: This notice requests individuals interested in serving on the San Diego Area Maritime Security Advisory Committee (AMSC) submit their applications for membership to the Captain of the Port (COTP) Sector San Diego. The Committee assists the Federal Maritime Security Coordinator (FMSC) in developing, reviewing, and updating the Area Maritime Security Plan for their area of responsibility.

DATES: Requests for membership should reach the U.S. Coast Guard COTP Sector San Diego by December 31st, 2021.

ADDRESSES: Applications for membership should be submitted to the Captain of the Port at the following address: Commander, Sector San Diego Attn: Mr. Kris Szczechowicz, San Diego AMSC Executive Secretary, 2710 N Harbor Drive, San Diego, CA 92101.

FOR FURTHER INFORMATION CONTACT: For questions about submitting an application or about the AMSC in general, contact Mr. Kris Szczechowicz, San Diego AMSC Executive Secretary, Phone: (619) 278-7089.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. (See 46 U.S.C. 70116; 46 U.S.C. 70112; 33 CFR 1.05-1, 6.01; Department of Homeland Security Delegation No. 0170.1). The MTSA includes a provision exempting these AMSCs from the Federal Advisory Committee Act (FACA), Public Law 92-436, 86 Stat. 470 (5 U.S.C. app.2).

San Diego AMSC Mission

The AMSCs assists the Federal Maritime Security Coordinator in the development, review, update, and exercising of the AMS Plan for their area of responsibility. Such matters include, but are not limited to: Identifying critical port infrastructure and operations; Identifying risks (threats, vulnerabilities, and consequences); Determining mitigation strategies and implementation methods; Developing strategies to facilitate the recovery of the MTS after a Transportation Security Incident; Developing and describing the process to continually evaluate overall port security by considering consequences and vulnerabilities, how they may change over time, and what additional mitigation strategies can be applied; and Providing advice to, and assisting the Federal Maritime Security Coordinator in developing and maintaining the Area Maritime Security Plan.

The San Diego Area Maritime Security Committee was chartered by the Commander, Sector San Diego to study and consider issues related to security in the Port of San Diego, in addition to reviewing the proposed Area Maritime Security Plan and serve as a link to communicating threats to waterway users in the Port of San Diego and Southern California, and identifying and quantifying those threats. It serves to protect the Port of San Diego through improved security procedures and communication and as a forum to coordinate security procedures to decrease the vulnerability of resources in the Port of San Diego. It serves as an interface between regulators and industry, and will assist governmental agencies to implement policies and procedures to improve security in the Port of San Diego. Details regarding the specific objectives of the San Diego Maritime Security Committee can be found in the charter.

AMSC Composition

The composition of an AMSC, to include the San Diego AMSC, is prescribed under 33 CFR 103.305. Pursuant to that regulation, members may be selected from the Federal, Territorial, or Tribal government; the State government and political subdivision of the State; local public safety, crisis management, and emergency response agencies; law enforcement and security organizations; maritime industry, including labor; other port stakeholders having a special competence in maritime security; and port stakeholders affected by security practices and policies. Members of the AMSC should have at least five years of experience related to maritime or port security operations.

AMSC Membership

The San Diego AMSC has fourteen member positions. Members of the AMSC should have at least five years of experience related to maritime or port security operations. We are seeking to fill the following five vacancies with this solicitation:

Vice-Chairperson: The Vice Chairperson will act as Chairperson in the absence or incapacity of the Chairperson, or in the event of a vacancy in the office of the Chairperson. The ideal candidate for this position will have more than ten years of experience in security and/or emergency operations management with a significant amount of time spent working in the Port of San Diego or similar operational environments.

Chair and Co-Chairperson (Training and Exercise Subcommittee): This subcommittee assists in the management of the Area Maritime Security Training and Exercise Program requirements. This sub-committee coordinates and promotes training and exercise related activities in support of the San Diego AMSC, and will serve as a forum for the sharing of training and exercise related information with Port of San Diego stakeholders. This sub-committee provides vetting for the development, revision, and approval of revisions of the San Diego Area Maritime Security Plan. The ideal candidates for these positions will have experience in emergency management planning, exercise planning, and filled a role as a training officer for a maritime company or agency working in the Port of San Diego or similar operating environment.

Chair and Co-Chairperson (Preventative Radiological/Nuclear Detection Subcommittee): This subcommittee assists on matters building on the work performed and other matters involving Preventative Radiological/Nuclear Detection (PRND) technology and equipment, sustainment, training, exercises, and operations within the San Diego area. This sub-committee will serve as the primary interface for agencies in the San Diego AMSC region with existing or developing maritime PRND capabilities. The PRND Subcommittee will coordinate and promote the development of a sustainable, regional PRND capability among the federal, state, and local agencies that make up the San Diego AMSC. The ideal candidates for these positions will have experience in the PRND field (such as participation in the legacy West Coast Maritime Pilot program and the PRND Task Force of CalEMA) and be knowledgeable about maritime domain awareness and port security issues of the San Diego region.

Applicants may be required to pass an appropriate security background check prior to appointment to the committee. Members' terms of office will be for five years; however, a member is eligible to serve additional terms of office. Members will not receive any salary or other compensation for their service on an AMSC. In support of the USCG policy on gender and ethnic diversity, we encourage qualified women and members of minority groups to apply.

Request for Applications

Please submit an application or nomination to the address indicated under the ADDRESSES section of this notice. Those seeking membership are not required to submit formal applications to the local FMSC; however, because we do have an obligation to ensure that a specific number of members have the prerequisite maritime security experience, we encourage the submission of resumes highlighting experience in the maritime and security industries.

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

Dated: November 18, 2021.
Timothy J. Barelli,
Captain, U.S. Coast Guard, Federal Maritime Security Coordinator—San Diego.

[FR Doc. 2021-25610 Filed 11-23-21; 8:45 am]

BILLING CODE 9110-04-P